DEPARTMENT OF HEALTH AND HUMAN SERVICES

National Institutes of Health

National Institute of Diabetes and Digestive and Kidney Diseases Diabetes Mellitus Interagency Coordinating Committee; Notice of Meeting

The National Institute of Diabetes and Digestive and Kidney Diseases (NIDDK), on behalf of the National Institutes of Health (NIH), the Centers for Disease Control and Prevention (CDC), and the Diabetes Mellitus Interagency Coordinating Committee (DMICC), is convening an ad hoc planning and evaluation meeting to provide a mid-course assessment of ongoing pre-clinical research efforts supported by the Special Statutory Funding Program for Type 1 Diabetes Research and to discuss possible future directions for these efforts.

Sessions of the meeting will be open to the public as indicated below, with attendance limited to space available. Certain sessions, during which confidential information will be discussed, will be closed to the public. Members of the public planning to attend the meeting must register online at: http://www.scgcorp.com/Type1Diabetes09/registration.asp. This is not a meeting to solicit public comment. Therefore, members of the public are permitted to attend the open sessions as observers only. Individuals who plan to attend and need special assistance, such as sign language interpretation or other reasonable accommodations, should inform the Contact Person listed below at least 10 days in advance of the meeting.

Name: Meeting on Pre-Clinical Research Supported by the Special Statutory Funding Program for Type 1 Diabetes Research.

Place: National Institutes of Health, Neuroscience Building, 6001 Executive Blvd., Conference Room C, Bethesda, MD 20852.

Date: June 17, 2009.

Open: 8 a.m. to 8:45 a.m.

Agenda: Meeting introduction; overview of the Type 1 Diabetes—Rapid Access to Intervention Development (T1D-RAID) research program.

Closed: 8:45 a.m. to 9:30 a.m.

Agenda: Mid-course assessment of T1D-RAID.

Open: 9:30 a.m. to 10 a.m.

Agenda: Overview of the Type 1 Diabetes Preclinical Testing Program (T1D-PTP)—Prevention or Reversal of Type 1 Diabetes in Rodent Models.

Closed: 10 a.m. to 10:30 a.m.

Agenda: Mid-course assessment of the T1D-PTP—Prevention or Reversal of Type 1 Diabetes in Rodent Models.

Open: 10:45 a.m. to 11:15 a.m.

Agenda: Overview of the T1D-PTP—Prevention or Reversal of Diabetic Complications in Rodent Models.

Closed: 11:15 a.m. to 11:45 a.m.

Agenda: Mid-course assessment of the T1D-PTP—Prevention or Reversal of Diabetic Complications in Rodent Models.

Open: 12:30 p.m. to 1 p.m.

Agenda: Overview of the Animal Models of Diabetic Complications Consortium (AMDCC) research program.

Closed: 1 p.m. to 2 p.m.

Agenda: Mid-course assessment of the AMDCC.

Open: 2 p.m. to 2:30 p.m.

Agenda: Overview of the Type 1 Diabetes Resource.

Closed: 2:30 p.m. to 3:15 p.m.

Agenda: Mid-course assessment of the Type 1 Diabetes Resource.

Open: 3:30 p.m. to 4 p.m.

Agenda: Overview of Beta Cell Biology Consortium (BCBC).

Closed: 4 p.m. to 5 p.m.

Agenda: Mid-course assessment of the BCBC.

Contact Person: Julie Wallace, PhD, Health Science Policy Analyst, Office of Scientific Program and Policy Analysis, National Institute of Diabetes and Digestive and Kidney Diseases, 9000 Rockville Pike, Building 31, Room 9A05, Bethesda, MD 20892, (301) 496-6623, wallaceja@niddk.nih.gov.

Name: Meeting on Pre-Clinical Research Supported by the Special Statutory Funding Program for Type 1 Diabetes Research.

Place: National Institutes of Health, Neuroscience Building, 6001 Executive Blvd., Conference Room C, Bethesda, MD 20852.

Date: June 18, 2009.

Open: 8 a.m. to 8:30 a.m.

Agenda: Overview of the Cooperative Study Group for Autoimmune Disease Prevention (Prevention Centers) research program.

Closed: 8:30 a.m. to 9 a.m.

Agenda: Mid-course assessment of the Prevention Centers.

Open: 9 a.m. to 9:30 a.m.

Agenda: Overview of the Immunobiology of Xenotransplantation Cooperative Research Program (IXCRP) research program.

Closed: 9:30 a.m. to 10:15 a.m.

Agenda: Mid-course assessment of the IXCRP.

Open: 10:30 a.m. to 11 a.m.

Agenda: Overview of the NHP Transplantation Tolerance Cooperative Study Group (NHPCSG).

Closed: 11 a.m. to 12:15 p.m.

Agenda: Mid-course assessment of the NHPCSG; discussion of cross-cutting themes for strengthening the ongoing preclinical research portfolio.

Open: 12:30 p.m. to 1:30 p.m.

Agenda: Discussion of future opportunities for preclinical research.

Contact Person: Julie Wallace, PhD, Health Science Policy Analyst, Office of Scientific Program and Policy Analysis, National Institute of Diabetes and Digestive and Kidney Diseases, 9000 Rockville Pike, Building 31, Room 9A05, Bethesda, MD 20892, (301) 496-6623, wallaceja@niddk.nih.gov.

Please Note: The NIH has instituted security measures to ensure the safety of NIH employees and property. Upon your arrival at the Neuroscience Building, enter through the main lobby where you will be greeted at the security guard's desk. Visitors who are not NIH employees will be required to show one form of identification (for example, a government-issued photo ID, driver's license, or passport) and to have their bags searched in order to enter the building. You will then be issued a visitor badge. In estimating your travel time, please allow for these security measures, particularly if you are arriving in a group. Self-parking is available for a maximum of $8 per day.

A registration link, information about the meeting, and the agenda are available online: http://www3.niddk.nih.gov/fund/otherType1Diabetes09/.

Dated: May 12, 2009.
Sanford Garfield,
Executive Secretary, DMICC, Division of Diabetes, Endocrinology and Metabolic Diseases, NIDDK, National Institutes of Health.

[FR Doc. E9-11698 Filed 5-20-09; 8:45 am]

BILLING CODE 4140-01-M